ENVIRONMENTAL PROTECTION AGENCY

40 CFR Part 131

[EPA-HQ-OW-2010-0606; FRL-9934-33-OW]

RIN 2040-AF16

Water Quality Standards Regulatory Revisions; Correction

AGENCY: Environmental Protection Agency (EPA).

ACTION: Final rule; correction.

SUMMARY: EPA is removing a sentence regarding the effective date for judicial review purposes in the preamble to a final rule that appeared in the Federal Register of August 21, 2015 (80 FR 51019). EPA included this sentence in the preamble to the final rule in error. Since the final rule does not fall within any of the actions listed in Clean Water Act section 509, it was not necessary to specify an effective date for judicial review purposes in the preamble. With this correction there is no delay in the effective date for purposes of judicial review, and parties choosing to do so may therefore seek judicial review at this time.

DATES: This correction is effective as of August 21, 2015.

FOR FURTHER INFORMATION CONTACT: Janita Aguirre, Standards and Health Protection Division, Office of Science and Technology (4305T), Environmental Protection Agency, 1200 Pennsylvania Ave. NW., Washington DC 20460; telephone number: (202) 566-1860; fax number: (202) 566-0409; email address: WQSRegulatoryClarifications@epa.gov.

SUPPLEMENTARY INFORMATION: In FR Doc. 2015-19821 appearing on page 51020 in the Federal Register of Friday, August 21, 2015, the following correction is made:

On page 51022, in the second column, under the heading entitled E. When does this action take effect?, in the first paragraph, line 2, remove “For judicial review purposes, this rule is promulgated as of 1 p.m. EST (Eastern Standard Time) on the effective date, which will be 60 days after the date of publication of the rule in the Federal Register.”

List of Subjects in 40 CFR Part 131

Environmental protection, Indians—lands, Intergovernmental relations, Reporting and recordkeeping requirements, Water pollution control.

Dated: September 18, 2015.
Kenneth J. Kopocis,
Deputy Assistant Administrator, Office of Water.

[FR Doc. 2015-24314 Filed 9-24-15; 8:45 am]

BILLING CODE 6560-50-P